DEPARTMENT OF THE TREASURY

Office of Thrift Supervision

[AC-24: OTS Nos. 0890 and H4521]

Home Bank, Lafayette, LA; Approval of Conversion Application

Notice is hereby given that on August 12, 2008, the Office of Thrift Supervision approved the application of Home Bank, Lafayette, Louisiana, to convert to the stock form of organization. Copies of the application are available for inspection by appointment (phone number: (202) 906-5922 or e-mail: Public.Info@OTS.Treas.gov) at the Public Reading Room, 1700 G Street, NW., Washington, DC 20552, and the OTS Midwest Regional Office, 225 E. John Carpenter Freeway, Suite 500, Irving, Texas 75062-2326.

Dated: August 14, 2008.
By the Office of Thrift Supervision.
Sandra E. Evans,
Federal Register Liaison.

[FR Doc. E8-19225 Filed 8-20-08; 8:45 am]

BILLING CODE 6720-01-M